DEPARTMENT OF THE INTERIOR

Bureau of Indian Affairs

Draft Environmental Impact Statement for the Proposed Manzanita Band of Kumeyaay Indians Fee-to-Trust Transfer and Casino Project, Calexico, CA

AGENCY: Bureau of Indian Affairs, Interior.

ACTION: Notice of availability.

SUMMARY: The Bureau of Indian Affairs (BIA), as lead agency, and the National Indian Gaming Commission, the City of Calexico, and the Manzanita Band of Kumeyaay Indians as cooperating agencies, intend to file a Draft Environmental Impact Statement (DEIS) with the Environmental Protection Agency (EPA) for the Tribe's proposed 60.8-acre fee-to-trust transfer and casino project to be located in Calexico, California, and that the DEIS is now available for public review and comment. This notice provides a 75-day public comment period, which adds a 30-day extension to the normal 45-day public comment period.

DATES: The DEIS will be available for public comment beginning October 8, 2010. Written comments on the DEIS must arrive by December 22, 2010. A public hearing will be held on Wednesday, November 10, 2010 from 6 p.m. to 9 p.m. or until the last public comment is received.

ADDRESSES: You may mail or hand carry written comments to Dale Risling, Acting Regional Director, Pacific Regional Office, Bureau of Indian Affairs, 2800 Cottage Way, Sacramento, California 95825. A public hearing will be held at: City of Calexico, 608 Heber Avenue, Calexico, California 92231. See the SUPPLEMENTARY INFORMATION section of this notice for directions on submitting comments and for locations where the DEIS will be available for review.

FOR FURTHER INFORMATION CONTACT: John Rydzik (916) 978-6051.

SUPPLEMENTARY INFORMATION: The Tribe proposes that 60.8 acres of land be taken into trust for the purpose of developing a casino facility. The property is located at the northernmost gateway to the City of Calexico, a California/Mexico border city of growing importance in international trade. The project site is situated at the southwest quadrant of State Highway 111 and Jasper Road and is bounded on the south and west by the Central Main and Dogwood Canals. The 60.8-acre parcel is undeveloped former agricultural land and is located within the City of Calexico's proposed 111 Calexico Place project site, a commercial highway development project that was approved by the City of Calexico City Council on May 5, 2010.

The proposed action consists of the fee-to-trust transfer of the project site, Federal review (by the National Indian Gaming Commission) of the development and management contract, and development of the proposed project. The proposed project includes a 459,621-square-foot casino facility on the 60.8-acre parcel. The casino facility would include an approximately 93,880-square-foot casino; 63,000 square feet of food/beverage and retail components; a 38,660-square-foot entertainment venue; and 218,081 square feet of other operational facilities (e.g., back of house area, central plant). In addition, there will be a 46,000-square-foot banquet/meeting hall and 200-room hotel. The casino will have 2,000 slot machines and 45 gaming tables. There will be three guest restaurants and one employee dining room. A swimming pool and 6,000-space parking facility will also be developed within the project area.

BIA, serving as the lead agency for compliance with the National Environmental Policy Act (NEPA), published a Notice of Intent to prepare the EIS for the proposed action in the Federal Register on March 6, 2008. In addition, BIA held a public scoping meeting on March 27, 2008, at the County of Imperial's Board of Supervisors Chamber Room in the City of El Centro, California. From that scoping meeting, a range of project alternatives were developed and subsequently analyzed in the DEIS, including: (1) Alternative A—Proposed Action, (2) Alternative B—Reduced Casino, and (3) Alternative C—No Action. Environmental issues addressed in the DEIS include land resources, water resources, air quality, biological resources, cultural and paleontological resources, socioeconomic conditions, transportation, land use and agriculture, public services, noise, hazardous materials, visual resources, environmental justice, growth inducing effects, indirect effects, cumulative effects, and mitigation measures.

Directions for Submitting Comments

Please include on the first page of your written comments your name, return address, and the phrase “DEIS Comments, Manzanita Band of Kumeyaay Indians, 60.8-Acre Fee-to-Trust Casino Project, Calexico, California.”

Availability of DEIS for Review

The DEIS will be available to view at Holtville Branch—Meyer Memorial Library, 101 E. 6th Street, Holtville, CA 92250 and at the City of Calexico—Camarena Memorial Library, 850 Encinas Avenue, Calexico, CA 92231. General information for the Holtville Branch—Meyer Memorial Library can be obtained by calling (760) 356-2385 and the City of Calexico—Camarena Memorial Library by calling (760) 768-2170. An electronic version of the DEIS can also be viewed at: http://www.manazanita.com/eis.html.

To obtain a compact disk copy of the DEIS, please provide your name and address in writing or by voicemail to John Rydzik, Chief of the Division of Environmental, Cultural Resources Management and Safety, at the telephone number provided in the FOR FURTHER INFORMATION CONTACT section of this notice. Individual paper copies of the DEIS will be provided upon payment of applicable printing expenses by the requestor for the number of copies requested.

Public Comment Availability

Written comments, including the names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published pursuant to section 1503.1 of the Council of Environmental Quality regulations (40 CFR parts 1500 through 1508) implementing the procedural requirements of NEPA of 1969, as amended (42 U.S.C. 4371 et seq.), the Department of the Interior Manual (516 DM 1-6) and is in the exercise of authority delegated to the Assistant Secretary—Indian Affairs by 209 DM 8.

Dated: September 28, 2010.
Larry Echo Hawk,
Assistant Secretary-Indian Affairs.

[FR Doc. 2010-25417 Filed 10-7-10; 8:45 am]

BILLING CODE 4310-W7-P